DEPARTMENT OF TRANSPORTATION

Surface Transportation Board

[STB Finance Docket No. 34137]

Chicago SouthShore & South Bend Railroad—Trackage Rights Exemption—National Railroad Passenger Corporation (AMTRAK)

National Railroad Passenger Corporation (AMTRAK), has agreed to grant local trackage rights to Chicago SouthShore & South Bend Railroad (CSS&SB). The trackage rights extend over approximately 2.7 miles of track from the turnout at approximately milepost 226.1 to the industrial lead at approximately milepost 228.8, all in or near Michigan City, IN.¹

¹ A redacted version of the Trackage Rights Agreement between AMTRAK, and CSS&SB (agreement) was filed with the verified notice of exemption. An unredacted version of the agreement, as required by 49 CFR 1180.6(a)(7)(ii), was concurrently filed under seal along with the motion for a protective order. This motion was granted in a separate decision served in this proceeding on January 7, 2002.

The transaction was scheduled to be consummated on or after December 28, 2001, the effective date of the exemption.

The purpose of the trackage rights is to enhance competition and to enable CSS&SB to provide service to two current customers on the line and other customers who locate on the line in the future.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34137, must be filed with the Surface Transportation Board, Office of the Secretary, Case Control Unit, 1925 K Street, NW., Washington, DC 20423-0001. In addition, one copy of each pleading must be served on Troy W. Garris, Weiner Brodsky Sidman Kider PC, Fifth Floor, 1300 19th Street, NW., Washington, DC 20036-1609.

Board decisions and notices are available on our website at “WWW.STB.DOT.GOV.”

Decided: January 4, 2002.
By the Board, David M. Konschnik, Director, Office of Proceedings.
Vernon A. Williams,
Secretary.

[FR Doc. 02-659 Filed 1-9-02; 8:45 am]

BILLING CODE 4915-00-P